DEPARTMENT OF HOUSING AND URBAN DEVELOPMENT

[Docket No. FR-6159-D-01]

Order of Succession for the Office of Housing

AGENCY: Office of the Assistant Secretary for Housing—Federal Housing Commissioner, HUD.

ACTION: Notice of Order of Succession.

SUMMARY: In this notice, the Assistant Secretary for Housing—FH Commissioner designates the Order of Succession for the Office of Housing. This Order of Succession supersedes all prior orders of succession for the Assistant Secretary for Housing—FH Commissioner, including the Order of Succession published on April 20, 2015.

DATES: June 20, 2019.

FOR FURTHER INFORMATION CONTACT: Vance Morris, Acting Associate General Deputy Assistant Secretary, Office of the Assistant Secretary for Housing—Federal Housing Commissioner, Department of Housing and Urban Development, 451 7th Street SW, Room 9100, Washington, DC 20410; telephone number 202-708-2601. (This is not a toll-free number). Persons with hearing or speech impairments may call HUD's toll-free Federal Relay Service at 800-877-8339.

SUPPLEMENTARY INFORMATION: The Assistant Secretary for Housing—FH Commissioner is issuing this Order of Succession of officials authorized to perform the functions and duties of the Assistant Secretary for Housing—FH Commissioner when the Assistant Secretary—FH Commissioner is not available to exercise the powers or perform the duties of the office. This Order of Succession is subject to the provisions of the Federal Vacancies Reform Act of 1998 (5 U.S.C. 3345-3349d).

Today's publication supersedes all prior orders of succession for the Office of Housing, including the Order of Succession notice published on April 20, 2015 (80 FR 21750).

Section A. Order of Succession

Subject to the provisions of the Federal Vacancies Reform Act of 1998, during any period when, by reason of absence, disability, or vacancy in office, the Assistant Secretary for Housing—FH Commissioner is not available to exercise the powers or perform the duties of the Assistant Secretary for Housing—Federal Housing Commissioner, the following officials within the Office of Housing are hereby designated to exercise the powers and perform the duties of the Office, including the authority to waive regulations. No individual who is serving in an office listed below in an acting capacity may act as the Assistant Secretary for Housing—Federal Housing Commissioner pursuant to this Order of Succession.

(1) General Deputy Assistant Secretary (GDAS)

(2) Office of Housing, Chief of Staff

(3) Associate General Deputy Assistant Secretary (AGDAS)

(4) Deputy Assistant Secretary for Finance and Budget

(5) Deputy Assistant Secretary for Operations

(6) Deputy Assistant Secretary for Multifamily Housing

(7) Deputy Assistant Secretary for Single Family Housing

(8) Director, Home Ownership Center (HOC), Philadelphia

(9) Deputy Assistant Secretary for Risk Management and Regulatory Affairs

(10) Deputy Assistant Secretary for Healthcare Programs

(11) Deputy Assistant Secretary for Housing Counseling

(12) Director, Multifamily Housing, Fort Worth

These officials shall perform the functions and duties of the office in the order specified herein, and no official shall serve unless all other officials whose positions precede his/hers in this order are unable to act by reason of absence, disability, or vacancy in office.

Section B. Authority Superseded

This Order of Succession supersedes all prior orders of succession for the Office of Housing, including the order of succession published on April 20, 2015 at 80 FR 21750.

Authority: Section 7(d), Department of Housing and Urban Development Act, 42 U.S.C. 3535(d).

Dated: June 20, 2019.
Brian Montgomery,
Assistant Secretary for Housing—Federal Housing Commissioner.

[FR Doc. 2019-19977 Filed 9-13-19; 8:45 am]

BILLING CODE 4210-67-P